DEPARTMENT OF THE INTERIOR

National Park Service

[NPS-WASO-NAGPRA-NPS0030727; PPWOCRADN0-PCU00RP14.R50000]

Notice of Inventory Completion: Tennessee Valley Authority, Knoxville, TN

AGENCY: National Park Service, Interior.

ACTION: Notice.

SUMMARY: The Tennessee Valley Authority (TVA) has completed an inventory of an associated funerary object, in consultation with the appropriate Indian Tribes, and has determined that a cultural affiliation between the associated funerary object and present-day Indian Tribes can reasonably be traced. Lineal descendants or representatives of any Indian Tribe not identified in this notice that wish to request transfer of control of this associated funerary object should submit a written request to the TVA. If no additional requestors come forward, transfer of control of the associated funerary object to the Indian Tribes stated in this notice may proceed.

DATES: Lineal descendants or representatives of any Indian Tribe not identified in this notice that wish to request transfer of control of this associated funerary object should submit a written request with information in support of the request to the TVA at the address in this notice by October 8, 2020.

ADDRESSES: Dr. Thomas O. Maher, Tennessee Valley Authority, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of associated funerary objects under the control of the Tennessee Valley Authority, Knoxville, TN. The associated funerary object was removed from an archeological site in Jackson County, AL.

This notice is published as part of the National Park Service's administrative responsibilities under NAGPRA, 25 U.S.C. 3003(d)(3). The determinations in this notice are the sole responsibility of the museum, institution, or Federal agency that has control of the Native American cultural items. The National Park Service is not responsible for the determinations in this notice.

Consultation

A detailed assessment of the funerary object was made by TVA professional staff in consultation with representatives of the Absentee Shawnee Tribe of Indians of Oklahoma; Alabama-Coushatta Tribe of Texas (previously listed as Alabama-Coushatta Tribes of Texas); Alabama-Quassarte Tribal Town; Cherokee Nation; Eastern Band of Cherokee Indians; Eastern Shawnee Tribe of Oklahoma; Kialegee Tribal Town; Poarch Band of Creeks (previously listed as Poarch Band of Creek Indians of Alabama); Seminole Tribe of Florida; Shawnee Tribe; The Chickasaw Nation; The Muscogee (Creek) Nation; The Seminole Nation of Oklahoma; Thlopthlocco Tribal Town; and the United Keetoowah Band of Cherokee Indians in Oklahoma (hereafter referred to as “The Consulted Tribes”).

History and Description of the Associated Funerary Object

The site listed in this notice—1JA180, the Rudder site, in Jackson County, AL—was excavated as part of TVA's Guntersville Reservoir project by the Alabama Museum of Natural History (AMNH) at the University of Alabama, using labor and funds provided by the Works Progress Administration. Details regarding the excavation of this site may be found in “An Archaeological Survey of Guntersville Basin on the Tennessee River in Northern Alabama,” by William S. Webb and Charles G. Wilder.

Human remains and other associated funerary objects from site 1JA180 were listed in a Notice of Inventory Completion published in the Federal Register on January 14, 2014 (79 FR 2877-2878, January 14, 2014). The cultural items listed in that notice have been transferred to The Muscogee (Creek) Nation. Recently, an additional associated funerary object from this site was discovered during the improvement of the curation of TVA's archeological collection at AMNH.

On March 30, 1939, burial unit 8 was excavated at 1JA180, the Rudder site, in Jackson County, AL, following TVA's purchase of the site on November 22, 1937. Site 1JA180 was composed of a truncated trapezoidal mound showing multiple construction periods and a smaller mound containing most of the burial units. The culturally affiliated NAGPRA cultural items from site 1JA180 are from the Henry Island phase of the Mississippian period. The one associated funerary object is a shell bead.

Spanish and French explorers of the 16th and 17th centuries indicated the presence of chiefdom-level tribal entities in the southeastern United States, and TVA has determined that the Coosa paramount chiefdom noted in historical chronicles is most likely related to Henry Island phase sites in this part of the Guntersville Reservoir. Tribal groups or towns that are constituents of The Muscogee (Creek) Nation claim descent from the Coosa chiefdom. Consequently, based on historical and oral traditional information, the preponderance of the evidence indicates that in this part of the Guntersville Reservoir area, Henry Island phase sites are most likely culturally associated with groups now part of The Muscogee (Creek) Nation.

Determinations Made by the Tennessee Valley Authority

Officials of the Tennessee Valley Authority have determined that:

• Pursuant to 25 U.S.C. 3001(3)(A), the one associated funerary object described in this notice is reasonably believed to have been placed with or near individual human remains at the time of death or later as part of the death rite or ceremony.

• Pursuant to 25 U.S.C. 3001(2), there is a relationship of shared group identity that can be reasonably traced between the associated funerary object listed in this notice and The Muscogee (Creek) Nation.

Additional Requestors and Disposition

Lineal descendants or representatives of any Indian Tribe not identified in this notice that wish to request transfer of control of this associated funerary object should submit a written request with information in support of the request to Dr. Thomas O. Maher, Tennessee Valley Authority, 400 West Summit Hill Drive, WT11C, Knoxville, TN 37902-1401, telephone (865) 632-7458, email tomaher@tva.gov, by October 8, 2020. After that date, if no additional requestors have come forward, transfer of control of the associated funerary object to The Muscogee (Creek) Nation may proceed.

The Tennessee Valley Authority is responsible for notifying The Consulted Tribes that this notice has been published.

Dated: August 3, 2020.
Melanie O'Brien,
Manager, National NAGPRA Program.

[FR Doc. 2020-19696 Filed 9-4-20; 8:45 am]

BILLING CODE 4312-52-P